DEPARTMENT OF THE INTERIOR

National Park Service

[NPS-WASO-NAGPRA-NPS0036441; PPWOCRADN0-PCU00RP14.R50000]

Notice of Inventory Completion Amendment: University of California, Riverside, Riverside, CA

AGENCY: National Park Service, Interior.

ACTION: Notice; amendment.

SUMMARY: In accordance with the Native American Graves Protection and Repatriation Act (NAGPRA), the University of California, Riverside has amended a Notice of Inventory Completion published in the Federal Register on May 2, 2003. This notice amends the number of associated funerary objects and the cultural affiliation in a collection removed from Riverside County, CA.

DATES: Repatriation of the human remains and associated funerary objects in this notice may occur on or after September 22, 2023.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the amendments and determinations in this notice, including the results of consultation, can be found in the inventory or related records held by the University of California, Riverside.

Amendment

This notice amends the determinations published in a Notice of Inventory Completion in the Federal Register (68 FR 23495, May 2, 2003). Repatriation of the items in the original Notice of Inventory Completion has not occurred. This amendment is being made to reflect a change in cultural affiliation and the identification of newly discovered associated funerary objects for the archeological collection CA-RIV-102 (accession 58).

The Soboba Band of Luiseno Indians, California have been newly identified as being culturally affiliated with CA-RIV-102. Also, objects have been newly identified as associated funerary objects (previously, no associated funerary objects were identified). The 6,600 associated funerary objects are 4,003 animal bones, one ceramic sherd, two pieces of clay, 16 pieces of charcoal, one seed pod bead, five seeds, one glass object, 14 fire-affected rocks, 1,201 pieces of lithic materials, 43 flaked stone tools, 87 ground stone tools, 44 crystals, one piece of ochre, six battered stones, two stone beads, 1,151 unmodified lithic pieces, five shell beads, 12 unmodified shells, and five metates.

Determinations (as Amended)

Pursuant to NAGPRA and its implementing regulations, and after consultation with the appropriate Indian Tribes and Native Hawaiian organizations, the University of California, Riverside has determined that:

• The human remains represent the physical remains of one individual of Native American ancestry.

• The 6,600 objects described in this amended notice are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California; Augustine Band of Cahuilla Indians, California; Cabazon Band of Cahuilla Indians (Previously listed as Cabazon Band of Mission Indians, California); Cahuilla Band of Indians; Los Coyotes Band of Cahuilla and Cupeno Indians, California; Morongo Band of Mission Indians, California; Ramona Band of Cahuilla, California; Santa Rosa Band of Cahuilla Indians, California; Soboba Band of Luiseno Indians, California; and the Torres Martinez Desert Cahuilla Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 22, 2023. If competing requests for repatriation are received, the University of California, Riverside must determine the most appropriate requestor prior to repatriation. Requests for joint repatriation of the human remains and associated funerary objects are considered a single request and not competing requests. The University of California, Riverside is responsible for sending a copy of this notice to the Indian Tribes identified in this notice.

Authority: Native American Graves Protection and Repatriation Act, 25 U.S.C. 3003, and the implementing regulations, 43 CFR 10.9, 10.10, 10.13, and 10.14.

Dated: August 16, 2023.
Melanie O'Brien,
Manager, National NAGPRA Program.

[FR Doc. 2023-18139 Filed 8-22-23; 8:45 am]

BILLING CODE 4312-52-P